DEPARTMENT OF AGRICULTURE

Natural Resources Conservation Service

Notice of Availability of the Draft Environmental Impact Statement (DEIS) for Williamson River Delta Restoration Project

AGENCY: Natural Resources Conservation Service.

ACTION: Notice of availability of the Draft Environmental Impact Statement (DEIS) for the Williamson River Delta Restoration Project and requesting public comment. A public meeting will be held at the Chiloquin High School Library on October 6, 2004, at 7 p.m. to discuss the project.

SUMMARY: The NRCS is seeking public comment on the Draft Environmental Impact Statement (DEIS) for a wetland restoration project on the Williamson River Delta. The full DEIS can be found at the following Web site: ftp://ftp-fc.sc.egov.usda.gov/OR/Klamath/williamsonriverdeis.pdf and at the following locations:

• NRCS Office, 2316 S. 6th St., Suite C, Klamath Falls, OR 97601.

• Klamath County Commissioners, 305 Main St., 2nd Floor, Klamath Falls, OR 97601.

• Klamath Tribes Natural Resources Department, 501 Chiloquin Blvd., Chiloquin, OR 97624.

• Chiloquin Public Library, 140 First St., Klamath Falls, OR 97624.

• Klamath Falls Public Library, 126 S. Third St., Klamath Falls, OR 97601.

• The Nature Conservancy, 226 Pine St., Klamath Falls, OR 97601.

DATES: Comments will be received for a 45-day period beginning September 17, 2004, through November 1, 2004.

ADDRESSES: Address all requests and comments to Kevin Conroy, Basin Team Leader, Natural Resources Conservation Service (NRCS), 2316 S. Sixth St., Suite C, Klamath Falls, OR 97601; (541) 882-9044 (fax).

FOR FURTHER INFORMATION CONTACT: Kevin Conroy, (541) 883-6924.

Dated: September 9, 2004.
Bob Graham,
State Conservationist, Portland, OR.

[FR Doc. 04-21600 Filed 9-24-04; 8:45 am]

BILLING CODE 3410-16-P